NUCLEAR REGULATORY COMMISSION

[NRC-2009-0246; Docket No. 50-382]

Entergy Operations Inc.; Notice of Withdrawal of Application for Amendment to Facility Operating License

The U.S. Nuclear Regulatory Commission (the Commission) has granted the request of Entergy Operations Inc. (Entergy, the licensee), to withdraw its September 17, 2008, application for proposed amendment to Facility Operating License (FOL) No. NPF-38 for the Waterford Steam Electric Station, Unit 3, located in St, Charles Parish, Louisiana.

The proposed amendment would have revised FOL to add a license condition on the extension of the reactor vessel inservice inspection (ISI) interval. This proposed license condition is the result of a condition in the NRC safety evaluation (SE), issued by letter dated May 8, 2008, on Westinghouse Owners Group (WOG), topical report WCAP-16168-NP, Revision 2, “Risk-Informed Extension of the Reactor Vessel In-Service Inspection Interval.” The Pressurized Water Reactor Owners Group, formerly known as WOG, issued WCAP-16168-NP-A (Approved), Revision 2, on June 13, 2008, incorporating the NRC SE dated May 8, 2008. The ISI interval extension part of a relief request is being separately evaluated by NRC and independent of this amendment request.

The Commission had previously issued a Notice of Consideration of Issuance of Amendment published in the Federal Register on November 4, 2008 (73 FR 65696). However, by letter dated June 3, 2009, the licensee withdrew the proposed change.

For further details with respect to this action, see the application for amendment dated September 17, 2008, and the licensee's letter dated June 3, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, MD, this 12th day of June 2009.
For The Nuclear Regulatory Commission.
Nageswaran Kalyanam,
Project Manager, Plant Licensing Branch IV, Division of Operating Reactor Licensing, Office of Nuclear Reactor Regulation.

[FR Doc. E9-14419 Filed 6-18-09; 8:45 am]

BILLING CODE 7590-01-P